FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 011961-023.

Title: The Maritime Credit Agreement.

Parties: COSCO Container Lines Company, Ltd.; Kawasaki Kisen Kaisha, Ltd.; Maersk Line A/S; Willenius Wilhelmsen Logistics AS; and Zim Integrated Shipping Services, Ltd.

Filing Party: Wayne Rohde, Esq.; Cozen O'Connor; 1627 I Street NW., Suite 1100, Washington, DC 20006.

Synopsis: The amendment deletes United Arab Shipping Company (S.A.G.) as a party to the Agreement.

Agreement No.: 012485.

Title: CMA CGM/Marinex Cargo Line Puerto Rico—Saint Maarten Space Charter Agreement.

Parties: CMA CGM S.A. and Marinex Cargo Line Inc.

Filing Party: Draughn Arbona, Senior Counsel; CMA CGM (America) LLC; 5701 Lake Wright Drive; Norfolk, VA 23502.

Synopsis: The Agreement authorizes CMA CGM S.A. to charter space to Marinex Container Line on certain vessels CMA CGM operates in the trade between Puerto Rico and Saint Maarten.

By Order of the Federal Maritime Commission.
Dated: June 1, 2017.
Rachel E. Dickon,
Assistant Secretary.

[FR Doc. 2017-11658 Filed 6-5-17; 8:45 am]

BILLING CODE 6731-AA-P